DEPARTMENT OF AGRICULTURE

Animal and Plant Health Inspection Service

9 CFR Part 94

[Docket No. 01-018-1]

Change in Disease Status of Great Britain and Northern Ireland Because of Foot-and-Mouth Disease

AGENCY: Animal and Plant Health Inspection Service, USDA.

ACTION: Interim rule and request for comments.

SUMMARY: We are amending the regulations governing the importation of certain animals, meat, and other animal products by removing Great Britain (England, Scotland, Wales, and the Isle of Man) and Northern Ireland from the list of regions considered to be free of rinderpest and foot-and-mouth disease. We are taking this action because the existence of foot-and-mouth disease has been confirmed there. The effect of this action is to prohibit or restrict the importation of any ruminant or swine into any fresh (chilled or frozen) meat and other products of ruminants or swine into the United States from Great Britain or Northern Ireland.

DATES: This interim rule was effective on January 15, 2001. We invite you to comment on this docket. We will consider all comments that we receive by May 14, 2001.

ADDRESSES: Please send four copies of your comment (an original and three copies) to: Docket No. 01-018-1, Regulatory Analysis and Development; PPD, APHIS, Suite 3C03, 4700 River Road, Unit 118, Riverdale, MD 20737-1238.

Please state that your comment refers to Docket No. 01-018-1.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Gary Colgrove, Assistant Director, Sanitary Trade Issues, National Center for Import and Export, VS, APHIS, 4700 River Road Unit 38, Riverdale, MD 20737-1231; (301) 734-4356.

SUPPLEMENTARY INFORMATION:

Background

The regulations in 9 CFR part 94 (referred to below as the regulations) govern the importation of specified animals and animal products into the United States in order to prevent the introduction of various animal diseases including rinderpest, foot-and-mouth disease (FMD), African swine fever, hog cholera, and swine vesicular disease. These are dangerous and destructive communicable diseases of ruminants and swine. Section 94.1 of the regulations lists regions of the world that are declared free of rinderpest or free of both rinderpest and FMD. Rinderpest or FMD exists in all other regions of the world not listed. Section 94.11 of the regulations lists regions of the world that have been declared free of rinderpest and FMD, but that are subject to certain restrictions because of their proximity to or trading relationships with rinderpest- or FMD-affected regions.

Prior to the effective date of this interim rule, Great Britain (England, Scotland, Wales, and Isle of Man) and Northern Ireland were listed in §§ 94.1 and 94.11 as regions considered to be free of rinderpest and FMD. However, on February 19, 2001, a suspected outbreak of FMD was detected in Essex, England. On February 12, 2001, the Chief Veterinary Officer of United Kingdom's Ministry of Agriculture, Fisheries and Food (MAFF) notified us and the Office International des Epizooties (OIE) with clinical confirmation of the FMD diagnosis. Additional outbreaks of FMD have subsequently been confirmed elsewhere in Great Britain. On February 27, 2001, a suspected outbreak of FMD was detected in Meigh, County Armagh, Northern Ireland. Northern Ireland's Agriculture Minister reported clinical confirmation of the FMD diagnosis on March 1, 2001.

MAAF and Northern Ireland's Department of Agriculture and Rural Development (NIDARD) are still investigating the virus' mode of introduction into the affected areas and are conducting extensive surveillance outside the quarantined areas to ensure that the disease is confined to those locations within the quarantined areas where the outbreaks are known to have occurred. Until the results of the epidemiological investigation and the surveillance activities are known, we believe that it is necessary to impose restrictions on all of Great Britain (England, Scotland, Wales, and Isle of Man) and Northern Ireland to protect the livestock of the United States from FMD.

Therefore, we are amending the regulations in § 94.1 by removing Great Britain (England, Scotland, Wales, and Isle of Man) and Northern Ireland from the list of regions that have been declared to be free of rinderpest and FMD. We are also removing Great Britain (England, Scotland, Wales, and Isle of Man) and Northern Ireland from the list in § 94.11 of regions that are declared to be free of these diseases, but that are subject to certain restrictions because of their proximity to or trading relationships with rinderpest- or FMD-affected regions. As a result of this action, the importation into the United States of any ruminant or swine and any fresh (chilled or frozen) meat and other products of ruminants and swine from any part of Great Britain (England, Scotland, Wales, and Isle of Man) and Northern Ireland is prohibited or restricted. We are making these amendments effective retroactively to January 15, 2001, because the disease may have been present in the affected areas for some time before it was initially detected.

Although we are removing Great Britain (England, Scotland, Wales, and Isle of Man) and Northern Ireland from the list of regions considered to be free of rinderpest and FMD, we recognize the MAFF and NIDARD responded immediately to the detection of FMD by imposing restrictions on the movement of ruminants, swine, and ruminant and swine products from the affected areas and by initiating measures to eradicate the disease. We intend to reassess this situation at a future date in accordance with the standard of the OIE. As part of that reassessment process, we will consider all comments received on this interim rule. This future reassessment will enable us to determine whether it is necessary to continue to prohibit or restrict the importation of ruminants or swine and any fresh (chilled or frozen) meat and other products of ruminants or swine from Great Britain and Northern Ireland, or whether we can restore Great Britain and Northern Ireland to the list of regions in which FMD is not known to exist, or regionalize portions of Great Britain or Northern Ireland as FMD-free.

Emergency Action

This rulemaking is necessary on an emergency basis to prevent the introduction of FMD into the United States. Under these circumstances, the Administrator has determined that prior notice and opportunity for public comment are contrary to the public interest and that there is good cause under 5 U.S.C. 553 for making this rule effective less than 30 days after publication in the Federal Register.

We will consider comments that are received within 60 days of publication of this rule in the Federal Register. After the comment period closes, we will publish another document in the Federal Register. The document will include a discussion of any comments we receive and any amendments we are making to the rule as a result of the comments.

Executive Order 12866 and Regulatory Flexibility Act

This rule has been reviewed under Executive Order 12866. For this action, the Office of Management and Budget has waived its review process required by Executive Order 12866.

We are amending the regulations governing the importation of certain animals, meat, and other animal products by removing Great Britain (England, Scotland, Wales, and Isle of Man) and Northern Ireland from the list of regions considered to be free of rinderpest and FMD. We are taking this action because the existence of FMD has been confirmed there. The effect of this action is to prohibit or restrict the importation of any ruminant or swine and any fresh (chilled or frozen) meat and other products of ruminants or swine into the United States from Great Britain or Northern Ireland on or after January 15, 2001. This action is necessary to protect the livestock of the United States from FMD.

This emergency situation makes timely compliance with section 604 of the Regulatory Flexibility Act (5 U.S.C. 601 et seq.). impracticable. We are currently assessing the potential economic effects of this action on small entities. Based on that assessment, we will either certify that the rule will not have a significant economic impact on a substantial number of small entities or publish a final regulatory flexibility analysis.

Executive Order 12988

This rule has been reviewed under Executive Order 12988, Civil Justice Reform. This rule: (1) Preempts all State and local laws and regulations that are inconsistent with this rule; (2) has retroactive effect to January 15, 2001; and (3) does not require administrative proceedings before parties may file suit in court challenging this rule.

Paperwork Reduction Act

This rule contains no new information collection or recordkeeping requirements under the Paperwork Reduction Act of 1995 (44 U.S.C. 3501 et seq.).

List of Subjects in 9 CFR Part 94

Animal diseases, Imports, Livestock, Meat and meat products, Milk, Poultry and poultry products, Reporting and recordkeeping requirements.

Accordingly, we are amending 9 CFR part 94 as follows:

PART 94—RINDERPEST, FOOT-AND-MOUTH DISEASE, FOWL PEST (FOWL PLAGUE), EXOTIC NEWCASTLE DISEASE, AFRICAN SWINE FEVER, HOG CHOLERA, AND BOVINE SPONGIFORM ENCEPHALOPATHY: PROHIBITED AND RESTRICTED IMPORTATIONS

1. The authority citation for part 94 continues to read as follows:

Authority: Title IV, Pub.L. 106-224, 114 Stat. 438, 7 U.S.C. 7701-7772; 7 U.S.C. 450; 19 U.S.C. 1306; 21 U.S.C. 111, 114a, 134a, 134b, 134c, 134f, 136, and 136a; 31 U.S.C. 9701; 42 U.S.C. 4331 and 4332; 7 CFR 2.22, 2.80, and 371.4.

§ 94.1 [Amended]

2. In § 94.1, paragraph (a)(2) is amended by removing the words “Great Britain (England, Scotland, Wales, and Isle of Man)” and “Northern Ireland,”.

§ 94.11 [Amended]

3. In § 94.11, paragraph (a) is amended by removing the words “Great Britain (England, Scotland, Wales, and Isle of Man)” and “Northern Ireland,”.

Done in Washington, DC, this 9th day of March 2001.
Bobby R. Acord,
Acting Administrator, Animal and Plant Health Inspection Service.

[FR Doc. 01-6403 Filed 3-13-01; 8:45 am]

BILLING CODE 3410-34-M